DEPARTMENT OF HEALTH AND HUMAN SERVICES

Food and Drug Administration

[Docket No. FDA-2013-N-1204]

Draft Risk Profile on Pathogens and Filth in Spices: Availability; Extension of Comment Period

AGENCY: Food and Drug Administration, HHS.

ACTION: Notice; Extension of comment period.

SUMMARY: The Food and Drug Administration (FDA or we) is extending the comment period for the notice entitled “Draft Risk Profile on Pathogens and Filth in Spices: Availability” that appeared in the Federal Register of November 4, 2013 (78 FR 66010). In the notice, FDA requested comments that can help improve the data and information used; the analytical analyses employed; and the clarity and transparency of the draft risk profile. We are taking this action in response to a request for an extension to allow interested persons additional time to submit comments, scientific data, and information.

DATES: We are extending the comment period for the draft risk profile. Submit either electronic or written comments by March 3, 2014.

ADDRESSES: Submit electronic comments and scientific data and information to http://www.regulations.gov. Submit written comments and scientific data and information to the Division of Dockets Management (HFA-305), Food and Drug Administration, 5630 Fishers Lane, Rm. 1061, Rockville, MD 20852.

FOR FURTHER INFORMATION CONTACT: Jane Van Doren, Center for Food Safety and Applied Nutrition (HFS-06), Food and Drug Administration, 5100 Paint Branch Pkwy., College Park, MD 20740, 240-402-2927.

SUPPLEMENTARY INFORMATION:

I. Background

In the Federal Register of November 4, 2013 (78 FR 66010), we published a notice entitled “Draft Risk Profile on Pathogens and Filth in Spices: Availability.” The notice provided a 60-day comment period for comments that can help improve (1) the data and information used; (2) the analytical analyses employed; and (3) the clarity and transparency of the draft risk profile.

We have received one request for an extension of the comment period for the notice. The request conveyed concern that the current 60-day comment period is not adequate to develop a response to the notice.

We have considered the request and are extending the comment period for the notice for 60 days, until March 3, 2014. We believe that a 60-day extension allows adequate time for interested persons to submit comments, scientific data, and information without significantly delaying the risk profile.

II. Request for Comments

Interested persons may submit either electronic comments regarding this document to http://www.regulations.gov or written comments to the Division of Dockets Management (see ADDRESSES). It is only necessary to send one set of comments. Identify comments with the docket number found in brackets in the heading of this document. Received comments may be seen in the Division of Dockets Management between 9 a.m. and 4 p.m., Monday through Friday, and will be posted to the docket at http://www.regulations.gov.

Dated: December 11, 2013.
Leslie Kux,
Assistant Commissioner for Policy.

[FR Doc. 2013-30055 Filed 12-17-13; 8:45 am]

BILLING CODE 4160-01-P